ENVIRONMENTAL PROTECTION AGENCY

[ER-FRL-6684-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060357, ERP No. D-COE-K39100-CA, Hemet/San Jacinto Integrated Recharge and Recovery Program, Construction and Operation, US Army COE Section 404 Permit, Riverside County, CA.

Summary: EPA expressed environmental concerns about potential impacts to waters of the U.S.; aquatic resources; biological resources, including endangered species habitat; and air quality. Rating EC2.

EIS No. 20060479, ERP No. D-FRC-C03016-NY, Broadwater Liquefied Natural Gas (LNG) Project, Construction and Operation a Natural Gas Pipeline Facilities, (Docket Nos. CP06-54, et al.), Long Island Sound, NY.

Summary: EPA expressed environmental concerns about potential impacts to air quality, water quality, and biological resources, and recommended that the FEIS contain additional information and/or analyses to address those impacts. Rating EC2.

EIS No. 20060481, ERP No. D-AFS-L65528-OR, Crawford Project and Proposed Nonsignificant Forest Plan Amendments, Commercial Timber Harvest, Prescribed Burning, Adjustments to Dedicated Old Growth Areas, and Road Closure and Decommissioning Activities, Implementation, Blue Mountain Ranger District, Malheur National Forest, Grant County, OR.

Summary: EPA expressed environmental concerns about potential increases in sediment loads to streams due to additional roads. EPA also recommended that the document clarify questions related to the number and location of road miles, sedimentation rates, and address concerns with the undocumented cost and timing of restoration measures. Rating EC1.

EIS No. 20060502, ERP No. D-NPS-K39103-CA, Giacomini Wetland Restoration Project, Propose to Restore Natural Hydrologic and Ecological Processes, Golden Gate National Recreation Area, Point Reyes National Seashore, Marin County, CA.

Summary: EPA supports the proposed project and believes it will significantly improve the hydrologic and ecological processes and functions in the Tomales Bay Watershed. Rating LO.

Final EISs

EIS No. 20060528, ERP No. F-AFS-L61131-ID, Emerald Creek Garnet Area, To Provide a Public Recreational Area for Collecting Garnet Gemstone, US Army COE Section 404 Permit, Idaho Panhandle National Forest, St. Joe Ranger District, Latah County, ID.

Summary: The final EIS addressed EPA's major concerns regarding water quality and wetlands; therefore, EPA does not object to the proposed project.

EIS No. 20060540, ERP No. F-NOA-G39038-LA, PROGRAMMATIC—The Louisiana Regional Restoration Planning Program, Establishing and Implementation of Natural Resource Trust Mandates, LA.

Summary: EPA does not object to the proposed project.

EIS No. 20060543, ERP No. F-COE-K36144-CA, San Juan Creek and Western San Mateo Creek Watershed Special Area Management Plan (SAMP), Proposed Watershed-Based SAMP to Balance Aquatic Resource Protection and Reasonable Economic Development, Southern Portion of Orange County, CA.

Summary: EPA is supportive of the SAMP, however, it has concerns about the alternatives analysis, permitting procedures, air quality impacts, and compliance with Clean Water Act Section 404(S)

(1) Guidelines. EPA will continue to work with the Corps to resolve these issues.

Dated: February 27, 2007.
Robert W. Hargrove,
Director, NEPA Compliance Division, Office of Federal Activities.

[FR Doc. E7-3671 Filed 3-1-07; 8:45 am]

BILLING CODE 6560-50-P